DEPARTMENT OF ENERGY

Federal Energy Regulatory Commission

[Docket No. EL00-62-000, et al.]

ISO New England Inc., et al.; Electric Rate and Corporate Regulation Filings

April 10, 2000.

Take notice that the following filings have been made with the Commission:

1. ISO New England Inc., New England Power Pool, Central Maine Power Company, Northeast Utilities Service Company, The United Illuminating Company, Unitil Power Corp. and Fitchburg, Gas and Electric Light Company, Vermont Electric Power Company, Inc., v. New England Power Pool and ISO New England Inc.

[Docket Nos. EL00-62-000, ER00-2052-000, ER00-2016-000, EL00-59-000, and ER00-2005-000]

Take notice that on March 31, 2000, as corrected on April 3, 2000, ISO New England Inc. filed in Docket Nos. EL00-62-000 and ER00-2052-000, pursuant to Section 206 proposed amendments to the New England Power Pool (NEPOOL) Open Access Transmission Tariff and the Restated NEPOOL Agreement to facilitate implementation of a Congestion Management System and Multi-Settlement System, and associated arrangements, for New England. Copies of said filing have been served upon the Secretary of the NEPOOL Participants Committee, as well as upon the utility regulatory agencies of the six New England States and the New England Conference of Public Utilities Commissioners.

Take notice that on March 30, 2000, in PG&E Generating, USGen New England, Inc., PG&E Energy Trading Power L.P., FPL Energy, LLC, Sithe New England Holdings, North American, LLC, Dighton Power Associates L.P., Tiverton Power Associates L.P., Rumford Associates L.P., Great Bay Power Corporation, NRG Power Marketing, Inc., Somerset Power, LLC, Middletown Power, LLC, Norwalk Harbor Power, LLC, Devon Power, LLC, Montville Power, LLC, Connecticut Jet Power, LLC, and Indeck-Pepperell Power Associates, Inc. (the Supporting Generators) submitted for filing in Docket No. ER00-2016-000, pursuant to Section 206 of the Federal Power Act, a proposal for a comprehensive congestion management system (CMS) and multi-settlement system (MSS). The Supporting Generators state that copies of the filing have been served upon all entities listed in Docket No. ER00-2016-000, the participants in the New England Power Pool, non-Participant transmission customers, and the New England State Governors and Regulatory Commissions.

Take notice that on March 31, 2000 Central Maine Power Company; Northeast Utilities Service Company; The United Illuminating Company; Unitil Power Corp. and Fitchburg Gas and Electric Light Company; and Vermont Electric Power Company, Inc. tendered for filing in docket Nos. EL00-59-000 and EL00-2005-000 pursuant to Sections 206 and 306 of the Federal Power Act a complaint against New England Power Pool and ISO New England Inc. The filing also was submitted as a rate change filing as permitted by Section 14.14 of the Restated NEPOOL Agreement and Section 205 of the Federal Power Act.

Comment date: April 21, 2000, in accordance with Standard Paragraph E at the end of this notice.

2. Northeast Utilities Service Company

[Docket Nos. ER95-1686-007, ER96-496-009, ER97-1359-000, OA97-300-000 and ER98-4604-000]

Take notice that on March 31, 2000, Northeast Utilities Service Company (NUSCO), tendered for filing an amendment to its refund report filed in the captioned dockets in compliance with the Commission's order in Northeast Utilities Service Company, 89 FERC ¶ 61,184 (1999).

Comment date: April 21, 2000, in accordance with Standard Paragraph E at the end of this notice.

3. PJM Interconnection, L.L.C.

[Docket No. ER98-3527-004]

Take notice that on April 3, 2000, the Market Monitoring Unit (MMU) of PJM Interconnection, L.L.C. (PJM), submitted the MMU's report on Enforcing Data Requests. The MMU states that the report is submitted pursuant to the Commission's “Order Approving Market Monitoring Plan as Modified” issued on March 10, 1999 in Docket No. ER98-3527-000. PJM Interconnection, L.L.C., 86 FERC ¶ 61,247, at 61,891 (1999).

The MMU states that copies of this filing were served upon all PJM Members and each state electric utility regulatory commission in the PJM control area.

Comment date: April 24, 2000, in accordance with Standard Paragraph E at the end of this notice.

4. PJM Interconnection, L.L.C.

[Docket No. ER98-3527-005]

Take notice that on April 3, 2000, the Market Monitoring Unit (MMU) of PJM Interconnection, L.L.C. (PJM), submitted the MMU's report on Ancillary Services Markets. The MMU states that the report is submitted pursuant to the Commission's “Order Approving Market Monitoring Plan as Modified” issued on March 10, 1999 in Docket No. ER98-3527-000. PJM Interconnection, L.L.C., 86 FERC ¶ 61,247, at 61,891 (1999).

The MMU states that copies of this report were served upon all PJM members and each electric utility regulatory commission in the PJM Control Area.

Comment date: April 24, 2000, in accordance with Standard Paragraph E at the end of this notice.

5. Citizens Utilities Company

[Docket No. ER99-450-001]

Take notice that on March 31, 2000, Citizens Utilities Company filed a refund report in connection with the Line Loss Amendment to Settlement Agreement, which was filed in Docket No. ER99-450-000 on November 2, 1998 and accepted for filing by the Commission by letter order dated December 3, 1998.

Comment date: April 21, 2000, in accordance with Standard Paragraph E at the end of this notice.

6. APS Energy Services

[Docket No. ER99-4122-003]

Take notice that on April 3, 2000, APS Energy Services filed a quarterly report for information only.

7. Allegheny Energy Service Corporation, on behalf of Allegheny Energy Supply Company, LLC

[Docket No. ER00-1908-001]

Take notice that on March 31, 2000, Allegheny Energy Service Corporation on behalf of Allegheny Energy Supply Company, LLC (Allegheny Energy Supply), tendered for filing Amendment No. 1 to Supplement No. 27 to the Market Rate Tariff to incorporate a Netting Agreement with El Paso Merchant Energy, L.P. into the tariff provisions.

Allegheny Energy Supply requests a waiver of notice requirements to make the Amendment effective as of March 23, 2000 or such other date as ordered by the Commission.

Copies of the filing have been provided to the Public Utilities Commission of Ohio, the Pennsylvania Public Utility Commission, the Maryland Public Service Commission, the Virginia State Corporation Commission, the West Virginia Public Service Commission, and all parties of record.

Comment date: May 1, 2000, in accordance with Standard Paragraph E at the end of this notice.

8. WPS Resources Operating Companies

[Docket No. ER00-2049-000]

Take notice that on March 31, 2000, WPS Resources Operating Companies (WPS), tendered for filing modifications to the rates, terms and conditions of ancillary services under its open access transmission tariff. WPS also filed a schedule providing for Generation Delivery Imbalance Service.

Copies of the filing were served upon the public utility's jurisdictional customers, the Public Service Commission of Wisconsin and the Michigan Public Service Commission.

Comment date: April 21, 2000, in accordance with Standard Paragraph E at the end of this notice.

9. Portland General Electric Company

[Docket No. ER00-2050-000]

Take notice that on March 31, 2000, Portland General Electric Company (PGE) tendered for filing PGE FERC Electric Tariff, Third Revised Volume No. 11 (Tariff), to revise its Market-Based Rates Tariff, Portland General Electric Company, FERC Electric Tariff, Original Volume No. 11.

PGE requests that the revised Tariff become effective on April 30, 2000.

A copy of this filing was served upon the Oregon Public Utility Commission.

Comment date: April 21, 2000, in accordance with Standard Paragraph E at the end of this notice.

10. MidAmerican Energy Company

[Docket No. ER00-2051-000]

Take notice that on March 31, 2000, MidAmerican Energy Company (MidAmerican), tendered for filing, under Section 205 of the Federal Power Act, proposed amendments to its market-based rate Tariff that would incorporate language regarding the reassignment of transmission capacity.

MidAmerican states that copies of this filing have been served on purchasers under Tariff and the Iowa, Illinois and South Dakota public utility commissions.

Comment date: April 21, 2000, in accordance with Standard Paragraph E at the end of this notice.

11. New England Power Pool

[Docket No. ER00-2053-000]

Take notice that on March 31, 2000, the New England Power Pool (NEPOOL) Participants Committee filed for acceptance a signature page to the New England Power Pool Agreement dated September 1, 1971, as amended, signed by Texas Instruments Incorporated (TI). The NEPOOL Agreement has been designated NEPOOL FPC No. 2.

The Participants Committee states that the Commission's acceptance of TI's signature page would permit NEPOOL to expand its membership to include TI. The Participants Committee further states that the filed signature page does not change the NEPOOL Agreement in any manner, other than to make TI a member in NEPOOL.

The Participants Committee requests an effective date of April 1, 2000, for commencement of participation in NEPOOL by TI.

Comment date: April 21, 2000, in accordance with Standard Paragraph E at the end of this notice.

12. New England Power Pool

[Docket No. ER00-2054-000]

Take notice that on March 31, 2000, the New England Power Pool (NEPOOL) Participants Committee filed a request for termination of membership in NEPOOL, with an effective date of April 1, 2000, of Statoil Energy Trading, Inc. (SETI). Such termination is pursuant to the terms of the NEPOOL Agreement dated September 1, 1971, as amended (the NEPOOL Agreement), and previously signed by SETI. The NEPOOL Agreement has been designated NEPOOL FPC No. 2.

The Participants Committee states that termination of SETI with an effective date of April 1, 2000 would relieve SETI, at it's request, of the obligations and responsibilities of NEPOOL membership and would not change the NEPOOL Agreement in any manner, other than to remove SETI from membership in NEPOOL.

Comment date: April 21, 2000, in accordance with Standard Paragraph E at the end of this notice.

13. New England Power Pool

[Docket No. ER00-2055-000]

Take notice that on March 31, 2000, the New England Power Pool (NEPOOL) Participants Committee filed for acceptance a signature page to the New England Power Pool Agreement dated September 1, 1971, as amended, signed by Calpine Power Services Company (Calpine). The NEPOOL Agreement has been designated NEPOOL FPC No. 2.

The Participants Committee states that the Commission's acceptance of Calpine's signature page would permit NEPOOL to expand its membership to include Calpine. The Participants Committee further states that the filed signature page does not change the NEPOOL Agreement in any manner, other than to make Calpine a member in NEPOOL.

The Participants Committee requests an effective date of April 1, 2000, for commencement of participation in NEPOOL by Calpine.

Comment date: April 21, 2000, in accordance with Standard Paragraph E at the end of this notice.

14. New England Power Pool

[Docket No. ER00-2056-000]

Take notice that on March 31, 2000, the New England Power Pool (NEPOOL) Participants Committee tendered for filing, a signature page to the New England Power Pool Agreement dated September 1, 1971, as amended, signed by Statoil Energy Services, Inc. (SESI). The NEPOOL Agreement has been designated NEPOOL FPC No. 2.

The Participants Committee states that the Commission's acceptance of SESI's signature page would permit NEPOOL to expand its membership to include SESI. The Participants Committee further states that the filed signature page does not change the NEPOOL Agreement in any manner, other than to make SESI a member in NEPOOL. The Participants Committee requests an effective date of April 1, 2000, for commencement of participation in NEPOOL by SESI.

Comment date: April 21, 2000, in accordance with Standard Paragraph E at the end of this notice.

15. New England Power Pool

[Docket No. ER00-2057-000]

Take notice that on March 31, 2000, the New England Power Pool (NEPOOL) Participants Committee tendered for filing, a signature page to the New England Power Pool Agreement dated September 1, 1971, as amended, signed by Conectiv Energy Supply, Inc. (CESI). The NEPOOL Agreement has been designated NEPOOL FPC No. 2.

The Participants Committee states that the Commission's acceptance of CESI's signature page would permit NEPOOL to expand its membership to include CESI. The Participants Committee further states that the filed signature page does not change the NEPOOL Agreement in any manner, other than to make CESI a member in NEPOOL.

The Participants Committee requests an effective date of April 1, 2000, for commencement of participation in NEPOOL by CESI.

Comment date: April 21, 2000, in accordance with Standard Paragraph E at the end of this notice.

16. New England Power Pool

[Docket No. ER00-2058-000]

Take notice that on March 31, 2000, the New England Power Pool (NEPOOL) Participants Committee tendered for filing, a signature page to the New England Power Pool Agreement dated September 1, 1971, as amended, signed by Quinnipiac Energy LLC (Quinnipiac). The NEPOOL Agreement has been designated NEPOOL FPC No. 2.

The Participants Committee states that the Commission's acceptance of Quinnipiac's signature page would permit NEPOOL to expand its membership to include Quinnipiac. The Participants Committee further states that the filed signature page does not change the NEPOOL Agreement in any manner, other than to make Quinnipiac a member in NEPOOL. The Participants Committee requests an effective date of April 1, 2000, for commencement of participation in NEPOOL by Quinnipiac.

Comment date: April 21, 2000, in accordance with Standard Paragraph E at the end of this notice.

17. Elkem Metals Company

[Docket Nos. ER00-2074-000 and EC00-72-000]

Take notice that on March 31, 2000, Elkem Metals Company (Elkem), pursuant to sections 203 and 205 of the Federal Power Act, tendered for filing: (1) an application for market-based rates; (2) a request for various waivers (including a waiver of the 60-day prior notice requirements); and (3) a request for authorization to transfer several jurisdictional rate schedules and two transmission lines to Elkem's newly-created affiliate, Elkem Metals Company-Alloy, L.P. The two transmission lines are used to connect Elkem's generation facilities to the transmission grid of American Electric Power Service Corporation (AEP).

Comment date: May 1, 2000, in accordance with Standard Paragraph E at the end of this notice.

18. Conectiv Delmarva Generation, LLC, Conectiv Energy Supply, Inc.

[Docket No. ER00-2076-000]

Take notice that on March 31, 2000, Conectiv, on behalf of Conectiv Delmarva Generation, LLC (CDG) and Conectiv Energy Supply, Inc. (CESI), tendered for filing Service Agreement No. 2 for sales by CDG pursuant to its market-based rate tariff to its affiliate CESI and requested expanded market-based rate authority for CESI to sell power to its affiliate Delmarva Power & Light Company.

Conectiv requests an effective date for the filing of June 1, 2000.

Copies of the filing were served upon Delmarva's wholesale requirements customers, and the Maryland People's Counsel, Maryland Public Service Commission, Delaware Public Service Commission, New Jersey Board of Public Utilities and the Virginia State Corporation Commission.

Comment date: April 21, 2000, in accordance with Standard Paragraph E at the end of this notice.

19. North American Electric Reliability Council

[Docket No. ER00-2077-000]

Take notice that on April 3, 2000, North American Electric Reliability Council (NERC) filed the description and procedures for a revised market redispatch pilot program to be in effect for the Eastern Interconnection during the period June 1, 2000 through December 31, 2000.

Comment date: April 24, 2000, in accordance with Standard Paragraph E at the end of this notice.

20. New England Power Company

[Docket No. ER00-2078-000]

Take notice that on April 3, 2000, New England Power Company (NEP) submitted for filing a service agreement between NEP and Southern Company Energy Marketing, L.P. for service under NEP's Wholesale Market Tariff, FERC Electric Tariff, Original Volume No. 10.

Copies of the filing were served upon Southern and the Department of Public Utilities of the Commonwealth of Massachusetts.

Comment date: April 24, 2000, in accordance with Standard Paragraph E at the end of this notice.

21. PJM Interconnection, L.L.C.

[Docket No. ER00-2079-000]

Take notice that on April 3, 2000, PJM Interconnection, L.L.C. (PJM), on behalf of the PJM Reliability Committee, filed amendments to Schedules 5.2, 7, and 11 of the Reliability Agreement Among Load Serving Entities in the PJM Control Area (RAA) to implement Active Load Management procedures and penalties, and to Schedule 14 of the RAA to apply penalties to parties to the RAA that do not follow PJM instructions to implement PJM Emergency procedures.

Copies of this filing were served upon all parties to the RAA and each state electric utility regulatory commission in the PJM control area.

PJM on behalf of the PJM Reliability Committee requests an effective date of June 3, 2000.

Comment date: April 24, 2000, in accordance with Standard Paragraph E at the end of this notice.

22. Rumford Power Associates Limited Partnership

[Docket No. ER00-2080-000]

Take notice that on April 3, 2000, Rumford Power Associates Limited Partnership (Rumford) tendered for filing, under Section 205 of the Federal Power Act, a rate schedule under which Rumford will sell energy, capacity and ancillary services at market-based rates and will reassign transmission capacity.

Comment date: April 24, 2000, in accordance with Standard Paragraph E at the end of this notice.

23. NewYork State Electric & Gas Corporation

[Docket No. ER00-2081-000]

Take notice that on April 3, 2000, New York State Electric & Gas Corporation (NYSEG) tendered for filing pursuant to Section 205 of the Federal Power Act and Section 35.13 of the Federal Energy Regulatory Commission's (FERC or Commission) Regulations, a request for modification of its borderline rate schedules.

NYSEG requests effective dates of February 15, or March 3, 2000, as appropriate to the various changes identified in the filing.

NYSEG has served copies of the filing on the parties affected.

Comment date: April 24, 2000, in accordance with Standard Paragraph E at the end of this notice.

24. Western Resources, Inc.

[Docket No. ER00-2084-000]

Take notice that on April 3, 2000, Western Resources, Inc. tendered for filing a Master Power Purchase and Sale Agreement between Western Resources, Inc. and Wabash Valley Power Association, Inc; and a Master Power Purchase and Sale Agreement between Western Resources, Inc. and PG&E Energy Trading-Power, L.P. Western Resources states that the purpose of these agreements is to permit these customers to take service under Western Resources' Market Based Power Sales Tariff on file with the Commission.

This agreement is proposed to be effective April 3, 2000.

Copies of the filing were served upon Wabash Valley Power Association, Inc. PG&E Energy Trading-Power, L.P., and the Kansas Corporation Commission.

Comment date: April 24, 2000, in accordance with Standard Paragraph E at the end of this notice.

25. Indianapolis Power & Light Company

[Docket No. ER00-2086-000]

Take notice that on April 3, 2000, Indianapolis Power & Light Company (IPL) filed an Interconnection, Operation and Maintenance Agreement Between DTE Georgetown, L.L.C., and Indianapolis Power & Light Company in the above-captioned docket.

IPL requests an effective date of April 4, 2000.

Comment date: April 24, 2000, in accordance with Standard Paragraph E at the end of this notice.

26. Allegheny Energy Service Corporation, on behalf of Allegheny Energy Supply Company LLC

[Docket No. ER00-2087-000]

Take notice that on April 3, 2000, Allegheny Energy Service Corporation on behalf of Allegheny Energy Supply Company, LLC (Allegheny Energy Supply Company) filed Amendment No. 2 to Supplement No. 8 to complete the filing requirement for one (1) new Customer of the Market Rate Tariff under which Allegheny Energy Supply offers generation services.

Allegheny Energy requests a waiver of notice requirements to make service available as of November 22, 1999, to PECO Energy Company.

Copies of the filing have been provided to the Public Utilities Commission of Ohio, the Pennsylvania Public Utility Commission, the Maryland Public Service Commission, the Virginia State Corporation Commission, the West Virginia Public Service Commission, and all parties of record.

Comment date: April 24, 2000, in accordance with Standard Paragraph E at the end of this notice.

27. Potomac Electric Power Company

[Docket No. ER00-2088-000]

Take notice that on April 3, 2000, Potomac Electric Power Company (Pepco) tendered for filing a service agreement pursuant to Pepco FERC Electric Tariff, Original Volume No. 5, entered into between Pepco and Aquila Energy Marketing Corporation.

An effective date of March 10, 2000 is requested for this service agreement.

Comment date: April 24, 2000, in accordance with Standard Paragraph E at the end of this notice.

28. Ohio Valley Electric Corporation, Indiana-Kentucky Electric Corporation

[Docket No. ER00-2089-000]

Take notice that on April 3, 2000, Ohio Valley Electric Corporation (including its wholly-owned subsidiary, Indiana-Kentucky Electric Corporation) (OVEC) tendered for filing a Service Agreement for Non-Firm Point-To-Point Transmission Service, dated March 15, 2000 (the Service Agreement) between British Columbia Power Exchange Corporation (Powerex) and OVEC. The Service Agreement provides for non-firm transmission service by OVEC to Powerex. In its filing, OVEC states that the rates and charges included in the Service Agreement are the rates and charges set forth in OVEC's Open Access Transmission Tariff.

OVEC proposes an effective date of March 15, 2000 and requests waiver of the Commission's notice requirement to allow the requested effective date.

Copies of this filing were served upon Powerex.

Comment date: April 24, 2000, in accordance with Standard Paragraph E at the end of this notice.

29. Carolina Power & Light Company

[Docket No. ER00-2090-000]

Take notice that on April 3, 2000, Carolina Power & Light Company (CP&L) tendered for filing a Service Agreement for Short-Term Firm Point-to-Point Transmission Service with Conectiv Energy Supply, Inc.; and a Service Agreement for Non-Firm Point-to-Point Transmission Service with Conectiv Energy Supply, Inc. Service to this Eligible Customer will be in accordance with the terms and conditions of Carolina Power & Light Company's Open Access Transmission Tariff.

CP&L is requesting an effective date of March 29, 2000 for each Agreement.

Copies of the filing were served upon the North Carolina Utilities Commission and the South Carolina Public Service Commission.

Comment date: April 24, 2000, in accordance with Standard Paragraph E at the end of this notice.

30. Central Illinois Light Company

[Docket No. ER00-2091-000]

Take notice that on April 3, 2000, Central Illinois Light Company (CILCO), 300 Liberty Street, Peoria, Illinois 61202, tendered for filing with the Commission a substitute Index of Customers under its Coordination Sales Tariff and one service agreement with one new customer, Conectiv Energy Supply, Inc.

CILCO requested an effective date of March 31, 2000.

Copies of the filing were served on the affected customer and the Illinois Commerce Commission.

Comment date: April 24, 2000, in accordance with Standard Paragraph E at the end of this notice.

31. Central Illinois Light Company

[Docket No. ER00-2092-000]

Take notice that on March 31, 2000, Central Illinois Light Company (CILCO), 300 Liberty Street, Peoria, Illinois 61202, on April 3, 2000 tendered for filing with the Commission an Index of Customers under its Market Rate Power Sales Tariff and one service agreement with one new customer, Conectiv Energy Supply, Inc.

CILCO requested an effective date of March 31, 2000.

Copies of the filing were served on the affected customers and the Illinois Commerce Commission.

Comment date: April 21, 2000, in accordance with Standard Paragraph E at the end of this notice.

32. Elkem Metals Company-Alloy L.P.

[Docket No. ER00-2093-000]

Take notice that on March 31, 2000, Elkem Metals Company-Alloy L.P. Elkem-Alloy, tendered for filing Rate Schedule FERC No. 1 and petitioned the Commission for authority to sell electricity at market-based rates and for the granting of waivers of certain Commission regulations.

Comment date: April 21, 2000, in accordance with Standard Paragraph E at the end of this notice.

33. Central Maine Power Company

[Docket No. ER00-2094-000]

Take notice that on March 31, 2000, Central Maine Power Company (CMP), tendered for filing Unexecuted Service Agreements For Firm Local Point-to-Point Transmission Service, Unexecuted Service Agreements For Local Network Transmission Service, and Unexecuted Local Network Operating Agreements. CMP states the instant filing are contemplated as part of the State of Maine's restructuring of the electric utility industry.

CMP requests the Commission allow these Agreements to be deemed effective on March 1, 2000 in order to coincide with the commencement of retail access in the State of Maine.

Comment date: April 21, 2000, in accordance with Standard Paragraph E at the end of this notice.

34. New York State Electric & Gas Corporation

[Docket No. ER00-2095-000]

Take notice that on March 31, 2000, New York State Electric & Gas Corporation (NYSEG), tendered for filing Amended Transmission Service Agreements between NYSEG and Constellation Power Source, Inc. and Morgan Stanley Capital Group, Inc. (the Customers). These Amendments specify that the Customer has agreed to incorporate certain NY ISO provisions into these agreements.

NYSEG has served copies of the filing on The New York State Public Service Commission and on the Customers.

Comment date: April 21, 2000, in accordance with Standard Paragraph E at the end of this notice.

35. Bangor Hydro-Electric Company

[Docket No. ER00-2096-000]

Take notice that on March 31, 2000, Bangor Hydro-Electric Company (Bangor Hydro) filed an executed service agreement for retail non-firm point-to-point transmission service with Great Northern Paper, Inc.

Bangor Hydro requests that the agreement become effective on March 1, 2000.

Comment date: April 21, 2000, in accordance with Standard Paragraph E at the end of this notice.

36. Bangor Hydro-Electric Company

[Docket No. ER00-2097-000]

Take notice that on March 31, 2000, Bangor Hydro-Electric Company (Bangor Hydro) filed an executed service agreement for firm point-to-point transmission service with Great Northern Paper, Inc.

Bangor Hydro requests that the agreement become effective on March 1, 2000.

Comment date: April 21, 2000, in accordance with Standard Paragraph E at the end of this notice.

37. Public Service Company of New Mexico

[Docket No. ER00-2098-000]

Take notice that on March 31, 2000, Public Service Company of New Mexico (PNM), tendered for filing pursuant to section 35.15 of the Regulations to the Federal Energy Regulatory Commission, 18 CFR 35.15 1998, Notices of Cancellation of several old (and no longer used) bundled Economy Energy Agreements. The agreements are being canceled in compliance with the requirements contained in the Commission's Order No. 888, 61 Fed. Reg. 21,540 (May 10, 1996) which provide that economy energy transactions must be unbundled.

Pursuant to PNM's filing, the following agreements are to be canceled: Economy Energy Agreement between The City of Burbank, California and PNM, dated February 19, 1988; Economy Energy Agreement between The City of Colton, California and PNM, dated April 1, 1991; Economy Energy Agreement between Idaho Power Company and PNM, dated May 7, 1990; Economy Energy Agreement between The City of Riverside, California and PNM, dated May 17, 1982; Economy Energy Agreement between Pacific Gas & Electric Company and PNM, dated May 12, 1983; and the Economy Energy Agreement between Utah Associated Municipal Power Systems and PNM, dated March 1, 1991. PNM's filing is available for public inspection at its offices in Albuquerque, New Mexico.

Comment date: April 21, 2000, in accordance with Standard Paragraph E at the end of this notice.

38. Western Resources, Inc.

[Docket No. ER00-2099-000]

Take notice that on March 31, 2000, Western Resources, Inc. (WR), tendered for filing an Energy Service Agreement between WR and the City of St. John, Kansas. WR requests an effective date of June 15, 2001.

Notice of the filing has been served upon the City of St. John, Kansas and the Kansas Corporation Commission.

Comment date: April 21, 2000, in accordance with Standard Paragraph E at the end of this notice.

39. Central Power and Light Company, West Texas Utilities Company, Public Service Company of Oklahoma, Southwestern Electric Power Company

[Docket No. ER00-2100-000]

Take notice that on March 31, 2000, Central Power and Light Company, Public Service Company of Oklahoma, Southwestern Electric Power Company and West Texas Utilities Company (collectively, the CSW Operating Companies), tendered for filing an agreement providing for LG&E Energy Marketing, Inc. (LG&E Energy) to purchase energy under the CSW Operating Companies' market-based rate power sales tariff.

The CSW Operating Companies request an effective date of March 1, 2000 for the agreement with LG&E Energy and, accordingly, seek waiver of the Commission's notice requirements. The CSW Operating Companies state that a copy of the filing was served on LG&E Energy and the Public Utility Commission of Texas.

Comment date: April 21, 2000, in accordance with Standard Paragraph E at the end of this notice.

40. South Carolina Electric & Gas Company

[Docket No. ER00-2101-000]

Take notice that on March 31, 2000, South Carolina Electric & Gas Company (SCE&G) submitted a service agreement establishing PG&E Energy Trading—Power, L.P. as a customer under the terms of SCE&G's Negotiated Market Sales Tariff.

Copies of this filing were served upon PG&E Energy Trading—Power, L.P. and the South Carolina Public Service Commission.

Comment date: April 21, 2000, in accordance with Standard Paragraph E at the end of this notice.

41. Northwestern Wisconsin Electric Company

[Docket No. ER00-2102-000]

Take notice that on April 3, 2000, Northwestern Wisconsin Electric Company, tendered for filing proposed changes in its Transmission Use Charge, Rate Schedule FERC No. 2. The proposed changes would decrease revenues from jurisdictional sales by $3,068.62 based on the 12 month period ending April 30, 2000. Northwestern Wisconsin Electric Company is proposing this rate schedule change to more accurately reflect the actual cost of transmitting energy from one utility to another based on current cost data. The service agreement for which this rate is calculated calls for the Transmission Use Charge to be reviewed annually and revised on May 1, 2000.

Northwestern Wisconsin Electric Company requests this Rate Schedule Change become effective May 1, 2000.

Copies of this filing have been provided to the respective parties and to the Public Service Commission of Wisconsin.

Comment date: April 24, 2000, in accordance with Standard Paragraph E at the end of this notice.

42. Northern States Power Company (Minnesota Company), Northern States Power Company, (Wisconsin Company)

[Docket No. ER00-2103-000]

Take notice that on April 3, 2000, Northern States Power Company (Minnesota) and Northern States Power Company (Wisconsin) (collectively known as NSP) tendered for filing a Short-Term Market-Based Electric Service Agreement between NSP and Ontario Power Generation Inc. (Customer).

NSP requests that this Short-Term Market-Based Electric Service Agreement be made effective on March 9, 2000.

Comment date: April 24, 2000, in accordance with Standard Paragraph E at the end of this notice.

43. Northern States Power Company, (Minnesota), Northern States Power Company, (Wisconsin)

[Docket No. ER00-2104-000]

Take notice that on April 4, 2000, Northern States Power Company (Minnesota) and Northern States Power Company (Wisconsin) (jointly NSP) tendered for filing a Non-Firm and a Short-Term Firm Point-to-Point Transmission Service Agreement between NSP and Williams Energy Marketing & Trading Company.

NSP requests that the Commission accept the Agreement effective March 15, 2000.

Comment date: April 25, 2000, in accordance with Standard Paragraph E at the end of this notice.

44. Duquesne Light Company

[Docket No. ER00-2111-000]

Take notice that on March 31, 2000, Duquesne Light Company (DLC), tendered for filing a Service Agreement dated March 29, 2000 with PG&E Energy Trading-Power, LP under DLC's Open Access Transmission Tariff (Tariff). The Service Agreement adds PG&E Energy Trading-Power, LP as a customer under the Tariff.

DLC requests an effective date of March 29, 2000 for the Service Agreement.

Comment date: April 21, 2000, in accordance with Standard Paragraph E at the end of this notice.

45. United American Energy Corp., PowerGasSmart.com, Inc.

[Docket Nos. ER00-2121-000 and ER00-2147-000]

Take notice that on April 3, 2000, the above-mentioned affiliated power producers and/or public utilities filed their quarterly reports for the quarter ending March 31, 2000.

Comment date: May 1, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-9471 Filed 4-14-00; 8:45 am]

BILLING CODE 6717-01-P